DEPARTMENT OF JUSTICE

Notice of Lodging of Proposed Modification to Previously Entered Consent Decree Under the Clean Air Act

On February 10, 2016, the Department of Justice lodged a proposed modification to Consent Decree with the United States District Court for the District of Kansas in the lawsuit entitled United States v. Coffeyville Resources Refining & Marketing, LLC, 04-cv-01064.

On July 13, 2004, the District of Kansas entered a consent decree between the United States, the State of Kansas and Coffeyville Resources Refining & Marketing (“CRRM”) under EPA's Clean Air Act (“2004 CD”). The 2004 CD resolved claims against CRRM for CAA violations at the CRRM's petroleum refinery located in Coffeyville, KS. The 2004 CD was subsequently replaced by a Second Consent Decree entered by the Court on April 19, 2012 (“2012 CD”), which is currently in effect. On February 10, 2016, the United States lodged a proposed modification to the 2012 CD that extends the effective date for final emission limits on SO2 emissions limits from the fluid catalytic cracking unit at the refinery and modifies the 2012 CD to allow CRRM to comply with final SO2 emission limits without installing a wet gas scrubber.

The publication of this notice opens a period for public comment on the proposed modification to the Second Consent Decree. Comments should be addressed to the Assistant Attorney General, Environment and Natural Resources Division, and should refer to United States v. Coffeyville Resources Refining & Marketing, LLC, D.J. Ref. No. 90-5-2-1-07459. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $4.50 (25 cents per page reproduction cost) payable to the United States Treasury.

Robert Brook,
Assistant Section Chief, Environmental Enforcement Section, Environment and Natural Resources Division.

[FR Doc. 2016-03065 Filed 2-12-16; 8:45 am]

BILLING CODE 4410-15-P